NATIONAL AERONAUTICS AND SPACE ADMINISTRATION

14 CFR Part 1260

RIN 2700-AC63

NASA Grant and Cooperative Agreement Handbook—Research and Development Abstracts

AGENCY: National Aeronautics and Space Administration (NASA).

ACTION: Proposed rule.

SUMMARY: This is a proposed rule to amend the NASA Grant & Cooperative Agreement Handbook to include a requirement for the electronic submission of abstracts of the planned research to be conducted under grants and cooperative agreements containing research and development (R&D) effort valued at over $25,000. This requirement is being established to support NASA's implementation of the E-Government Act of 2002 that mandates the development and maintenance of a repository that integrates information on research and development funded by the Federal Government. This proposed rule would help improve access to information on NASA-funded research and development activities, thus providing public and private research managers improved capability for R&D program planning.

DATES: Comments should be submitted on or before December 30, 2003.

ADDRESSES: Interested parties should submit written comments to Thomas Sauret, NASA Headquarters, Office of Procurement, Contract Management Division (Code HK), Washington, DC 20546. Comments may also be submitted by e-mail to: Thomas.E.Sauret@nasa.gov.

Comments that concern information collection requirements must be sent to the Office of Management and Budget at the address listed in the Paperwork Reduction Act section of this document. A copy of those comments may also be sent to the Agency representative named in the preceding paragraph.

FOR FURTHER INFORMATION CONTACT: Thomas Sauret, Code HK, (202) 358-1068, email: Thomas.E.Sauret@nasa.gov.

SUPPLEMENTARY INFORMATION:

A. Background

This proposed rule would add a new provision, 1260.40, NASA Research and Development (R&D) Abstracts, and related instructions, 1260.18, NASA Research and Development (R&D) Abstract Collection, to the Grant and Cooperative Agreement Handbook. The new provision provides for the collection of abstracts or summaries for NASA-funded awards with R&D effort greater than $25,000. The requirements of section 207(g) of the E-Government Act of 2002 (Pub. L. 107-347) provide the basis for this change. Section 207(g) mandates the development and maintenance of a repository that integrates information on research and development funded by the Federal Government. In furtherance of that requirement, NASA has developed a Web-based database system to collect abstracts for all NASA's funded R&D efforts valued over $25,000. A NASA website (the Abstract Collection and Transmittal System (ACTS), http://proposals.hq.nasa.gov/acts/) has been established for recipients of NASA R&D grants or cooperative agreements to enter their abstract data. ACTS will transfer submitted abstracts to a government-wide database sponsored by the National Science Foundation (NSF). The NSF sponsored government-wide database is available to other agencies and to the public. NASA's ACTS database is designed only as a collection and transmittal tool and will not be open to the general public.

B. Regulatory Flexibility Act

This proposed rule is not expected to have a significant economic impact on a substantial number of small business entities within the meaning of the Regulatory Flexibility Act (5 U.S.C. 601, et. seq.), because the information that would be required under this proposed rule is typically already developed by grant/cooperative agreement recipients in some form as part of the proposal process, and the administrative costs associated with the one-time submission of the R&D abstract is considered insignificant in relation to the award value.

C. Paperwork Reduction Act of 1995

This proposed rule contains information collection requirements. As required by the Paperwork Reduction Act of 1995 (44 U.S.C. 3507(d)), NASA has submitted a copy of the information collection requirements to the Office of Management and Budget (OMB) for its review and approval. OMB is required to make a decision concerning the collection of information contained in these proposed regulations between 30 and 60 days after publication of this document in the Federal Register. Therefore, a comment to OMB regarding this information collection is best assured of having its full effect if OMB receives it within 30 days of publication of this notice. This does not affect the deadline for the public to comment on the proposed regulations. All comments regarding this information collection should be sent to: Desk Officer for NASA, Office of Information and Regulatory Affairs, Office of Management and Budget, Room 10236, New Executive Office Building, Washington, DC, 20503.

Collection of Information: NASA Research and Development Abstracts Collection

The public reporting and recordkeeping burden for this collection of information is estimated to be 1,500 hours. The estimated burden has been calculated as follows:

Responses | 3000
Hours per response | ×0.5 (30 min.)
Annual reporting burden | 1500 hours.

The estimated number of responses shown above is the total number of NASA research-related awards made through grants and agreements, as well as those made through contract awards. This estimate reflects the combined paperwork clearance request the Agency is submitting to OMB.

List of Subjects in 14 CFR Part 1260

Grants Administration—Research.

Tom Luedtke,
Assistant Administrator for Procurement.

Accordingly, 14 CFR Part 1260 is proposed to be amended as follows:

1. The authority citation for 14 CFR Part 1260 continues to read as follows:

Authority: 42 U.S.C. 2473(c)(1), 31 U.S.C. 6301 et seq.

PART 1260—GRANTS AND COOPERATIVE AGREEMENTS

2. Section 1260.18 is added to read as follows:

§ 1260.18 NASA Research and Development (R&D) Abstract Collection.

(a) The E-Government Act of 2002 (Public Law No. 107-347) mandates the development and maintenance of a repository that integrates information on research and development funded by the Federal Government. In support of that requirement, NASA will collect research abstracts and forward them to an appropriate central repository where they will be available for use by government agencies and other users.

(b) Information on R&D awards subject to the provision at § 1260.40, NASA Research and Development (R&D) Abstracts, including recipient name and award number, shall be automatically entered by NASA into the NASA R&D Abstract Collection and Transmittal System (ACTS) database on a monthly basis. The database may be accessed via the website listed in the clause. Grant officers shall check the website to determine if the selected recipient is listed as an entity already registered in the ACTS database. If the selected recipient is registered, then no further action by the grant officer is required. If the selected recipient is not already registered in ACTS, the grant officer must obtain from their Center ACTS point of contact a new ACTS user identification and password for the selected recipient. The grant officer shall provide the user identification and password to the award recipient.

§ 1260.20 [Amended]

3. Section 1260.20 is amended by—

a. Removing from the first sentence in paragraphs (a), and (e) “1260.39” and adding “1260.40” in its place, and removing from the first sentence in paragraph (d) “1260.38” and adding “1260.40” in its place;

b. Removing from the first sentence of paragraph (c) “and 1260.37” and adding “, 1260.37, and 1260.40” in its place; and

c. Removing from paragraphs (f) and (h) “1260.39” and adding “1260.40” in its place.

4. Section 1260.40 is added to read as follows:

§ 1260.40 NASA Research and Development (R&D) Abstracts.

(See § 1260.18 for guidance associated with use of this provision.)

NASA Research and Development (R&D) Abstracts

(XX/XX)

(a) The award recipient shall, within 60 days after award (or 30 days after the award information is entered into the NASA R&D Abstract Collection and Transmittal System (ACTS) database, whichever is later), enter a summary or abstract of the research and development activity to be conducted under this award into the ACTS database. The database may be accessed at the following URL: http://proposals.hq.nasa.gov/acts/.

(b) The abstract should range from 250 to 500 words in length. The abstract will be made available to the public without restrictions; therefore, caution is advised against inclusion of any material for which dissemination in the public domain may be prohibited, such as trade secrets, proprietary information or export-controlled information.

(c) The abstract and other pertinent award information will be included in a database of R&D abstracts from across the Federal Government. The government-wide database will include abstracts and other information concerning awards, such as the dollar value and estimated completion date. The government-wide database will be accessible to other government agencies and private organizations and will allow entities to search the database for a variety of information regarding current research awards. The NASA ACTS database will not be searchable by the general public.

(d) Access to the NASA ACTS database requires user identification and a password to ensure that only authorized personnel enter abstract information. The Grant Officer will provide instructions regarding user identification and password access if the award recipient does not already possess an ACTS identification and password.

[End of provision]

§ 1260.50 [Amended]

5. In Section 1260.50, amend the first sentence of paragraph (a) by removing “1260.38” and adding “1260.40” in its place.

[FR Doc. 03-27489 Filed 10-30-03; 8:45 am]

BILLING CODE 7510-01-P